DEPARTMENT OF HEALTH AND HUMAN SERVICES

Centers for Disease Control and Prevention

[60Day-23-0853; Docket No. CDC-2023-0141]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Asthma Information Reporting System (AIRS). The purpose of AIRS is to collect performance measure (PM) and surveillance data designed to increase the efficiency and effectiveness of, and to monitor the impact of, state, local and territorial asthma programs.

DATES: CDC must receive written comments on or before February 21, 2023.

ADDRESSES: You may submit comments, identified by Docket No. CDC-2023-0141 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7118; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Asthma Information and Reporting System (AIRS) (OMB Control No. 0920-0853, Exp. 5/31/2023)—Extension—National Center for Environmental Health (NCEH), Centers for Disease Control and Prevention (CDC).

Background and Brief Description

In 1999, the CDC began its National Asthma Control Program (NACP), a public health approach to address the burden of asthma. The program supports the proposed objectives of “Healthy People 2030” for asthma and is based on the public health principles of surveillance, partnerships, interventions, and evaluation. CDC requests a three-year approval to extend the “Asthma Information Reporting System (AIRS)” (OMB Control No. 0920-0853; Exp. Date 5/31/2023).

The three-year Extension will allow CDC to continue to monitor states' program planning and delivery of public health activities and the programs' collaboration with health care systems through the end of the five-year cooperative agreement—A Comprehensive Public Health Approach to Asthma Control through Evidence-Based Interventions (CDC-RFA-EH19-1902).

The goal of this data collection is to provide NCEH with routine information about the activities and performance of the state, local and territorial recipients funded under the NACP through an annual reporting system. NACP requires recipients to report activities related to partnerships, infrastructure, evaluation and interventions to monitor the programs' performance in reducing the burden of asthma. AIRS also includes two forms to collect aggregate emergency department (ED) visits and hospital discharge (HD) data from recipients.

AIRS was first approved by OMB in 2010 to collect data in a web-based system to monitor and guide participating state health departments. Since implementation in 2010, AIRS and the technical assistance provided by CDC staff have provided states with uniform data reporting methods and linkages to other states' asthma program information and resources. Thus, AIRS has saved state resources and staff time when asthma programs embark on asthma activities similar to those conducted elsewhere.

In the past three years, AIRS data were used to:

• Facilitate communication about interventions across states and enable inquiries regarding interventions by populations with a disproportionate burden, age groups, geographic areas and other variables of interest;

• Provide feedback to the grantees about their performance relative to others through the distribution of written reports and several presentations summarizing the results;

• Customize and provide technical assistance and support materials to address implementation challenges;

• Serve as a resource to the branch, division, and center when addressing congressional, departmental and institutional inquiries. For example, the PMs allow us to report the number and age distribution of people reached with intensive asthma self-management education through the recipients and their partners;

• Help the branch align its current interventions with CDC goals and allowed the monitoring of progress toward these goals. For example, recipient efforts to establish public health-health care collaboration has been integrated into CDC's 6|18 initiative which connects healthcare purchasers, payers, and providers with CDC researchers, economists, and policy analysts to find ways to improve health and control costs with the 6|18 interventions;

• Allow the NACP and the state asthma programs to make more informed decisions about activities to achieve objectives. For example, PM information identified a problem with enrolling patients most in need of intervention into recipient programs. This led to cross-state discussions and changes in recruitment strategies;

• Motivate use of data and evaluation findings. For example, the requirement to report actions taken based on evaluation findings encourages program managers and health departments officials to act on recommendations in evaluation reports.

CDC requests OMB approval for an estimated 105 annual burden hours. There is no cost to respondents other than their time to participate.

Estimated Annualized Burden Hours
Type of respondents | Form name | Number of respondents | Number of responses per respondent | Average burden per response (in hours) | Total burden (in hours)
Funded Asthma Program Recipients | Performance Measures Reporting Tool | 30 | 1 | 150/60 | 75
| Emergency Department Visits Reporting Form | 30 | 1 | 30/60 | 15
| Hospital Discharge Reporting Form | 30 | 1 | 30/60 | 15
Total |  |  |  |  | 105

Jeffrey M. Zirger,
Lead, Information Collection Review Office, Office of Scientific Integrity, Office of Science, Centers for Disease Control and Prevention.

[FR Doc. 2022-27506 Filed 12-19-22; 8:45 am]

BILLING CODE 4163-18-P